DEPARTMENT OF ENERGY

Federal Energy Regulatory Commission

[Docket No. AD09-2-000]

Credit and Capital Issues Affecting the Electric Power Industry; Supplemental Notice of Technical Conference

December 18, 2008.

As announced in the Notice of Technical Conference issued on November 20, 2008, the Federal Energy Regulatory Commission (Commission) will hold a technical conference on January 13, 2009. The purpose of this conference is to provide the Commission with information on how the recent crisis in the financial markets is affecting the electric industry. The technical conference will explore issues regarding access to and cost of capital for both short-term operations and longer-term investments, as well as credit issues as they pertain to short-term markets. The technical conference will be held from 1 to 5 p.m. (EST), in the Commission Meeting Room at the Federal Energy Regulatory Commission, 888 First Street, NE., Washington, DC 20426. All interested persons are invited to attend, and registration is not required.

The agenda for this conference, with a list of participating panelists, is attached. There will be two panels. The first panel will discuss access to capital and cost of capital for operations and long-term investment. The second panel will discuss credit issues in short-term electricity markets, including a comparison of how credit is managed in other commodity markets.

As previously announced, a free Webcast of this event is available through http://www.ferc.gov. Anyone with Internet access who desires to view this event can do so by navigating to http://www.ferc.gov's Calendar of Events and locating this event in the Calendar. The event will contain a link to its Webcast. The Capitol Connection provides technical support for the Webcasts and offers the option of listening to the meeting via phone-bridge for a fee. If you have any questions, visit http://www.CapitolConnection.org or call 703-993-3100.

All interested persons may file written comments following the technical conference on or before January 30, 2009.

This conference will be transcribed. Transcripts of the meeting will be available immediately for a fee from Ace Reporting Company (202-347-3700 or 1-800-336-6646).

Commission conferences are accessible under section 508 of the Rehabilitation Act of 1973. For accessibility accommodations, please send an e-mail to accessibility@ferc.gov or call toll free 1-866-208-3372 (voice) or 202-208-1659 (TTY), or send a FAX to 202-208-2106 with the required accommodations.

For more information about this conference, please contact: Clara Brooks, 202.502.8357, clara.brooks@ferc.gov, for logistical issues, and Scott Miller, 202.502.8456, scott.miller@ferc.gov, or Tina Ham, 202.502.6224, tina.ham@ferc.gov, for other concerns.

Kimberly D. Bose,
Secretary.

[FR Doc. E8-30749 Filed 12-24-08; 8:45 am]

BILLING CODE 6717-01-P